DEPARTMENT OF JUSTICE

Notice of Filing of Proposed Settlement Agreement Under the Comprehensive Environmental Response, Compensation, and Liability Act

On November 21, 2018, a Notice of Settlement Agreement was filed in the Superior Court for the State of New Hampshire, Merrimack County in the proceeding entitled In the Matter of the Liquidation of The Home Insurance Company, Docket No. 217-2003-EQ-00106. The Notice informs the Court that at the conclusion of a public comment period, John R. Elias, Insurance Commissioner of the State of New Hampshire, in his capacity as Liquidator (the “Liquidator”) of the Home Insurance Company (“Home”) may seek court approval of a Settlement Agreement between the Liquidator, and the United States of America on behalf of the U.S. Environmental Protection Agency (“EPA”), the U.S. Department of the Navy, U.S. Department of the Interior (“DOI”), and the National Oceanic and Atmospheric Administration of the U.S. Department of Commerce (“NOAA”) (collectively referred to as “the Federal Claimants”), acting by and through the United States Department of Justice (“DOJ”).

The Settlement Agreement would resolve seven proofs of claim the Federal Claimants' have filed. The seven proofs of claim assert claims under Section 107 of the Comprehensive Environmental Response, Compensation, and Liability Act (“CERCLA”), 42 U.S.C. 9607, against insured parties in connection with six Superfund Sites: The Sharon Steel Corporation (Farrell Works Disposal Area) Superfund Site in Hermitage, PA; the Lower Duwamish Waterway Superfund Site in Seattle, WA; the San Gabriel Valley Area 2 Site in Los Angeles, CA; the U.S. Oil Recovery Site in Pasadena, TX; the Lee's Lane Landfill Superfund Site in Louisville, KY; and the Petroleum Products Superfund Site in Pembroke Park, FL.

Under the Settlement Agreement, the United States will have an allowed Class II priority claim in the amount of $27,044,146 allocated to the six Superfund Sites as follows:

Amount | Site | Home insured
$16,000,000 | Sharon Steel Corporation (Farrell Works Disposal Area) Superfund Site | Sharon Steel Corporation.
6,298,630 | Lower Duwamish Waterway Superfund Site | Manson Construction and Engineering Company.
2,200,000 | Lower Duwamish Waterway Superfund Site | Duwamish Shipyard, Inc.
2,224,999 | San Gabriel Valley Area 2 Site | Azusa Pipe & Tube Bending, Corp.
300,000 | U.S. Oil Recovery Site | Explorer Pipeline Company.
19,609 | Lee's Lane Landfill Superfund Site | Louisville Varnish Company, Inc.
908 | Petroleum Products Superfund Site | Shaw Trucking.

For each Class II priority distribution that Home makes, Home shall use the above amounts to determine the appropriate distribution for each of the six Superfund Sites. In consideration of payments made on the allowed Class II Priority Claim, upon approval of the Settlement Agreement the Federal Claimants provide a covenant not to sue to Home and the Liquidator as described in the Agreement under CERCLA under the policies that are identified in the Settlement Agreement and in the proofs of claim.

The publication of this notice opens a period for public comment on the Settlement Agreement. Comments should be addressed to the Assistant Attorney General, Environment and Natural Resources Division, and should refer to In the Matter of the Liquidation of The Home Insurance Company, Docket No. 217-2003-EQ-00106, D.J. Ref. No. 90-11-3-08308. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: U.S. DOJ—ENRD, P.O. Box 7611, Washington, DC 20044-7611.

Please enclose a check or money order for $3.50 (25 cents per page reproduction costs) payable to the United State Treasury.

Robert Maher,
Assistant Section Chief, Environmental Enforcement Section, Environment and Natural Resources Division.

[FR Doc. 2018-26417 Filed 12-4-18; 8:45 am]

BILLING CODE 4410-15-P